NUCLEAR REGULATORY COMMISSION

Draft U.S. Nuclear Regulatory Commission FY 2004-2009 Strategic Plan, NUREG-1614, Volume 3

AGENCY: Nuclear Regulatory Commission.

ACTION: Notice of availability.

SUMMARY: The Nuclear Regulatory Commission (NRC) is announcing the availability of draft NUREG-1614, Volume 3, “U.S. Nuclear Regulatory Commission, FY 2004-2009 Strategic Plan,” dated November 7, 2003. The draft strategic plan will be open for public comment until December 31, 2003.

DATES: The comment period for the draft strategic plan will close on December 31, 2003.

ADDRESSES: You may submit comments by any one of the following methods. Please include the phrase “Draft Strategic Plan” in the subject line of your submission. Comments submitted in writing or in electronic form will be made available to the public in their entirety. Personal information will not be removed from your comments.

Preferred submission method: E-mail your comments, preferably as a WordPerfect or Microsoft Word attachment, to: NRCREP@nrc.gov.

Mail comments to: Chief, Rules and Directives Branch, MS-T6-D59, Office of Administration, U.S. Nuclear Regulatory Commission, Washington, DC 20555-0001.

Fax comments to: Chief, Rules and Directives Branch, Office of Administration, U.S. Nuclear Regulatory Commission at (301) 415-5144.

Draft NUREG-1614, Volume 3, and other publicly available documents related to this notice are available for electronic viewing on public computers in the NRC's Public Document Room (PDR), Public File Area O1F21, One White Flint North, 11555 Rockville Pike, Rockville, Maryland. The PDR's reproduction services contractor will provide copies of publicly available documents for a fee.

Publicly available documents related to this notice, including public comments received, are also available electronically through the NRC's Electronic Reading Room at http://www.nrc.gov/NRC/reading-rm/adams.html. From this site, the public can gain entry into the NRC's Agencywide Document Access and Management System (ADAMS), which provides text and image files of NRC's public documents. Draft NUREG-1614, Volume 3, is publicly available in ADAMS under Accession No. ML033140570. If you do not have access to ADAMS or if there are problems in accessing the documents located in ADAMS, contact the NRC Public Document Room (PDR) Reference staff at 1-800-397-4209, 301-415-4737 or by e-mail to PDR@nrc.gov.

A free single copy of Draft NUREG-1614, Volume 3, to the extent of availability, may be requested by writing to the Office of the Chief Information Officer, Reproduction and Distribution Services Section, U.S. Nuclear Regulatory Commission, Printing and Graphics Branch, Washington, DC 20555-0001; facsimile: 301-415-2289; e-mail: DISTRIBUTION@nrc.gov.

Some publications in the NUREG series available through the NRC's Electronic Reading Room at www.nrc.gov/reading-rm/doc-collections are updated regularly and may differ from the last printed version.

FOR FURTHER INFORMATION CONTACT: Leslie W. Barnett, Director, Division of Planning, Budget, and Analysis, Office of the Chief Financial Officer, U.S. Nuclear Regulatory Commission, Washington, DC 20555-0001; telephone: 301-415-7540.

SUPPLEMENTARY INFORMATION: As a normal course of activities, agencies periodically re-visit their strategic plans. The NRC is developing a new strategic plan for FY 2004-2009 to replace the agency's existing strategic plan.

The NRC is seeking comments on its draft FY 2004-2009 Strategic Plan (ADAMS Accession No. ML033140570). The draft Strategic Plan establishes the agency's long-term strategic direction and outcomes. It provides a foundation to guide NRC's work and to allocate NRC's resources.

The NRC's draft Strategic Plan does not represent a fundamental change in the agency's mission. However, it better aligns the agency's goals with its mission and strategic objective to “enable the use and management of radioactive materials and nuclear fuels for beneficial purposes in a manner that (1) protects the public health and safety and the environment, (2) promotes the security of our nation, and (3) provides for regulatory actions that are effective, efficient, and open.” Additionally, the draft Strategic Plan has been restructured to improve its focus and readability. The restructuring significantly reduced the redundancy that exists in the agency's current strategic plan.

The NRC's draft Strategic Plan now includes a vision statement for NRC. The NRC's vision in fulfilling its responsibilities is: “Excellence in regulating the safe and secure use and management of radioactive materials for the public good.” The draft plan also focuses on five general goals: Safety, security, openness, effectiveness, and management excellence. These goals support our ability to maintain the public health, safety, and trust. The overarching goal of ensuring the safe use of radioactive materials and of enhancing safety, as appropriate, remains unchanged. The general goal on security has been added to reflect recent changes in our environment, while the general goal on openness emphasizes those actions we can directly control and states that public confidence should be an outcome of openness.

The NRC encourages all interested parties to comment on the draft Strategic Plan. The comment period will close on December 31, 2003. Comments on the draft plan may be submitted by any of the methods outlined under the ADDRESSES heading. Stakeholder feedback will be valuable in helping the Commission develop a final plan that has the benefit of the many views in the regulated civilian nuclear industry.

The final version of NUREG-1614, Volume 3, is expected to be released on or about March 30, 2004.

Dated at Rockville, Maryland, this 18th day of November, 2003.
For the Nuclear Regulatory Commission.
Leslie W. Barnett,
Director, Division of Planning, Budget, and Analysis, Office of the Chief Financial Officer.

[FR Doc. 03-29248 Filed 11-21-03; 8:45 am]

BILLING CODE 7590-01-P